DEPARTMENT OF THE INTERIOR

Fish and Wildlife Service

[FWS-R4-ES-2018-N039; FXES11140400000-189-FF04E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given in ADDRESSES by April 27, 2018.

ADDRESSES: Reviewing Documents: Documents and other information submitted with the applications are available for review, subject to the requirements of the Privacy Act and Freedom of Information Act, by any party who submits a written request for a copy of such documents to the following office within 30 days of the date of publication of this notice (see DATES): U.S. Fish and Wildlife Service Regional Office, Ecological Services, 1875 Century Boulevard, Atlanta, GA 30345 (Attn: Karen Marlowe, Permit Coordinator).

Submitting Comments: If you wish to comment, you may submit comments by any one of the following methods:

• U.S. mail or hand-delivery: U.S. Fish and Wildlife Service's Regional Office (see above).

• Email: permitsR4ES@fws.gov. Please include your name and return address in your email message. If you do not receive a confirmation from the U.S. Fish and Wildlife Service that we have received your email message, contact us directly at the telephone number listed in FOR FURTHER INFORMATION CONTACT.

FOR FURTHER INFORMATION CONTACT: Karen Marlowe, Permit Coordinator, 404-679-7097 (telephone) or 404-679-7081 (fax).

SUPPLEMENTARY INFORMATION: We invite review and comment from local, State, and Federal agencies and the public on applications we have received for permits to conduct certain activities with endangered and threatened species under section 10(a)(1)(A) of the Endangered Species Act of 1973, as amended (16 U.S.C. 1531 et seq.; ESA), and our regulations in the Code of Federal Regulations (CFR) at 50 CFR part 17. With some exceptions, the ESA prohibits activities with listed species unless a Federal permit is issued that allows such activities. The ESA requires that we invite public comment before issuing these permits.

Public Availability of Comments

Before including your address, phone number, email address, or other personal identifying information in your comment, you should be aware that your entire comment—including your personal identifying information—may be made publicly available at any time. While you can ask us in your comment to withhold your personal identifying information from public review, we cannot guarantee that we will be able to do so.

Permit Applications
Permit application No. | Applicant | Species/Numbers | Location | Activity | Type of take | Permit action
TE 22311A-4 | Tennessee Aquarium, Chattanooga, TN | Blue shiner (Cyprinella caerulea), Amber darter (Percina antesella), Cumberland darter (Etheostoma susanae), Goldline darter (Percina aurolineata), Conasauga logperch (Percina jenkinsi), Snail darter (Percina tanasi), and Laurel dace (Chrosomus saylori) | Alabama, Georgia, Kentucky, North Carolina, Tennessee, and Virginia | Presence/absence surveys, tissue collection for genetic analysis, and captive propagation research | Capture, identify, take fin clips, and release all of the identified species, and capture, transport and maintain in captivity up to 10 Conasauga logperch and up to 80 laurel dace | Renewal and Amendment.

Authority

We provide this notice under section 10(c) of the Act.

Leopoldo Miranda,
Assistant Regional Director, Ecological Services, Southeast Region.

[FR Doc. 2018-06202 Filed 3-27-18; 8:45 am]

BILLING CODE 4333-15-P